ENVIRONMENTAL PROTECTION AGENCY

[FRL 9922-00-OCFO; EPA-HQ-OEI-2015-0039]

E-Enterprise for the Environment Portal

AGENCY: Environmental Protection Agency.

ACTION: Notice: request for comment.

SUMMARY: The Environmental Protection Agency (EPA) Office of the Chief Financial Officer is requesting comments on the development of an E-Enterprise for the Environment portal and announcing three public meetings in the form of internet webinars. E-Enterprise is a transformative 21st- century strategy for rethinking how government agencies deliver environmental protection in the United States. Through joint governance at the federal, state, and tribal levels, EPA, the states, and tribes are collaboratively modernizing business processes and driving and sharing innovations. These changes will improve environmental results and enhance services to the regulated community and the public by making government more efficient and effective.

The portal, a Web site that functions as a point of access to information and tools, may provide consolidated entry points for businesses and citizens to efficiently locate, obtain access to, and interact with relevant EPA, state, and tribal environmental programs and resources. EPA and our state and tribal partners ultimately may choose to provide a different name than “portal” to better characterize the functionalities provided. The goal is to reduce regulatory burden and optimize information technology resources across government entities. Further detail on the portal is provided in the Background section below and also at www2.epa.gov/e-enterprise/e-enterprise-portal.

EPA is seeking comment on the value of establishing a portal and the functions that it should provide. The EPA will host a series of webinars for the public to learn about the portal, ask questions and learn how to provide comments. While open to any participants, the first webinar on 2/19/15 will be oriented towards states and other co-regulators; the second webinar on 2/23/15 will be for theregulated community; and the third on 3/5/15 will be aimed atthe general public . In parallel with this Federal Register notice, EPA will conduct tribal consultation to obtain input from tribes.

DATES: Webinars will be held on February 19, 2015, February 23, 2015 and March 5, 2015 from 1 p.m. to approximately 3 p.m. Eastern Time. Comments may be submitted 90 days from date of publication in the Federal Register.

ADDRESSES: The webinars will be conducted via the Internet.

To register for the sessions, please visit www2.epa.gov/e-enterprise/portal-scoping or the links below.

February 19, 2015 From 1-3 p.m. EST

If you are a co-regulator, please register here: https://attendee.gotowebinar.com/rt/1359012128777800450.

February 23, 2015 From 1-3 p.m. EST

If you are a regulated entity please register here: https://attendee.gotowebinar.com/rt/2565860280640724481.

March 5, 2015 From 1-3 p.m. EST

If you are a member of the public, please register here: https://attendee.gotowebinar.com/rt/983075909101638402.

After registering you will receive a confirmation email containing information about how to join the Webinar. Registration is strongly encouraged but you may also join the meetings using the links above.

Comments: Submit your written comments, identified by Docket ID No. EPA-HQ-OEI-2015-0039, by Internet: http://www.regulations.gov: Follow the online instructions for submitting comments.

Email: OEI.docket@epa.gov.

Instructions: EPA's policy is that all comments will be included in the public docket without change and may be made available online at http://www.regulations.gov, including any personal information provided, unless the comment includes information claimed to be Confidential Business Information or other information the disclosure of which is restricted by statute. Do not submit information that you consider to be CBI or otherwise protected through http://www.regulations.gov or by email. The http://www.regulations.gov Web site is an “anonymous access” system, which means EPA will not know your identity or contact information unless you provide it in the body of your comment. If you send an email comment directly to EPA without going through http://www.regulations.gov, your email address will be automatically captured and included as part of the comment that is placed in the public docket and made available on the Internet. If you submit an electronic comment, EPA recommends that you include your name and other contact information in the body of your comment and with any electronic storage media you submit. If EPA cannot read your comment due to technical difficulties and cannot contact you for clarification, EPA may not be able to consider your comment. Electronic files should avoid the use of special characters, any form of encryption, and be free of any defects or viruses.

FOR FURTHER INFORMATION CONTACT: Anyone interested in further information may contact Shana Harbour at telephone number (202) 566-2959; fax: (202) 501-0648; email address: harbour.shana@epa.gov; mailing address Environmental Protection Agency, Office of the Chief Financial Officer, Mail code 2732A, 1200 Pennsylvania Avenue NW., Washington, DC 20460. General information concerning E-Enterprise can be found on the Web at www2.epa.gov/e-enterprise/e-enterprise-portal.

SUPPLEMENTARY INFORMATION:

A. Background

Consistent with Executive Orders 13571, 13576, 13563 and 13610 and the 2012 White House Digital Government and Shared Services Strategies, EPA seeks to transform the business of environmental protection. E-Enterprise is a transformative 21st century strategy for rethinking how government agencies deliver environmental protection in the United States. Through joint governance at the federal, state, and tribal levels, EPA, the states, and tribes are collaboratively modernizing business processes and driving and sharing innovations. These changes will improve environmental results and enhance services to the regulated community and the public by making government more efficient and effective. Additional information concerning E-Enterprise can be found at www2.epa.gov/e-enterprise/e-enterprise-portal.

A portal is central to the E-Enterprise vision. Ultimately, the portal could provide consolidated entry points for businesses and citizens to efficiently locate, obtain access to, and interact with relevant EPA, state, and tribal environmental programs and web resources. The goal is to integrate information across government entities to provide a seamless experience when accessing EPA or partner portals or applications.

In the delivery of EPA's mission to protect human health and the environment through regulatory implementation and open government initiatives, the EPA seeks to coordinate and streamline interaction within and across federal, state, and tribal environmental agencies. The portal is needed to help address inefficiencies that have grown as environmental programs developed under statutes passed over the course of more than 40 years. The public and the regulated community rightfully expect transactions under these programs, some of which still employ paper-based methods or outdated technologies, to be modern and efficient. A main purpose of the portal is to provide better customer service to the public and to the regulated community. EPA and state regulators will also benefit by having easier access to comprehensive environmental information.

A goal of the portal is to reduce regulatory burden and optimize and share information technology resources. EPA would like to develop the portal with input from the public. This may include feedback on needed enhancements to existing services or information on services that are delivered inefficiently with significant overlap, redundancy, or inconsistency across offices and agencies. Through this notice, consideration of public comments, interaction through the aforementioned webinars, and consultation with tribes, the EPA will gain important information on the needs of stakeholders and how we can best serve the American public in bringing the environmental protection business enterprise into the 21st century.

B. Public Meeting

Does this action apply to me?

This action is directed to the general public. However, this notice may be of particular interest to: persons who submit reporting information to EPA, such as regulated companies and facilities; academic researchers and non-governmental organizations; information technologists; and members of the public interested in environmental conditions. EPA has not attempted to describe all the specific entities that may have interest in the E-Enterprise portal. If you have any questions regarding this notice, consult Shana Harbour, whose contact information is listed under FOR FURTHER INFORMATION CONTACT.

C. Written Comments

What should I consider as I prepare my comments for EPA?

To ensure proper receipt by EPA, please be sure to identify the Docket ID number assigned to this action [EPA-HQ-OEI-2015-0039] in the subject line on the first page of your response. You may also provide the name, date, and Federal Register citation.

Your comments will be particularly helpful if you identify yourself and your sector (regulated entity, non-governmental organization, academic, general public, other (explain). For more information on the E-Enterprise portal, please visit www2.epa.gov/e-enterprise/e-enterprise-portal. EPA is particularly interested in comments on the following:

1. How frequently and for what purpose do you visit epa.gov, state and other government environmental Web sites?

2. List the government Web sites you frequently visit for environmental information and identify opportunities for potential integration of information from those Web sites.

3. Cite examples of successful portals or portal-like information systems.

4. Discuss what you consider to be significant obstacles to business information transactions with EPA and state co-regulators.

5. Discuss what you view as significant opportunities for streamlining transactions with EPA or states and how a portal may or may not facilitate them.

6. Identify requirements for capabilities of the portal and for each requirement indicate:

a. The extent to which the requirement involves transactions or aspects of transactions that are common across organizational or programmatic units when reporting to environmental regulatory agencies (e.g. registration, logging in, resubmitting common contact or facility information, etc.).

b. Relationship of the requirement to regulatory obligations.

c. Priority of the requirement, and whether the requirement is “must-have” or “nice-to-have.”

d. Urgency of the requirement, as in how soon the capability is needed.

e. Any information on how a portal could reduce the time you spend to report environmental information or process transactions and an estimate of this time.

7. Discuss any positive/negative impacts of using a portal as the required or voluntary means for interacting with EPA and states for business transactions required to fulfill environmental regulatory obligations.

8. In order to provide a more streamlined/personalized/customized experience in the portal for retrieving publically available information, would you be willing to establish an electronic credential (user ID) or reuse an existing ID such as one used on social media?

You may find the following suggestions helpful for preparing your comments:

—Explain your views as clearly as possible.

—Describe any assumptions that you used.

—Provide copies of any technical information and/or data that you used to support your views.

Dated: January 16, 2015.
David A. Bloom,
Acting Chief Financial Officer.

[FR Doc. 2015-01277 Filed 1-23-15; 8:45 am]

BILLING CODE 6560-50-P